FEDERAL COMMUNICATIONS COMMISSION

Radio Broadcasting Services; AM or FM Proposals To Change the Community of License

AGENCY: Federal Communications Commission.

ACTION: Notice.

SUMMARY: The following applicants filed AM or FM proposals to change the community of License: CSSI Non-Profit Educational Broadcasting Corporation, Station KYQX, Facility ID 62040, BPED-20161216AAP, From Weatherford, TX, To Mineral Wells, TX; East Valley Institute of Technology District #401, Station KPNG, Facility ID 173984, BPED-20170111ABI, From Chandler, AZ, To Maricopa, AZ; Educational Media Foundation, Station KLVK, Facility ID 76329, BPED-20170111ABJ, From Fountain Hills, AZ, To Maricopa, AZ; Educational Media Foundation, Station KLVA, Facility ID 2749, BPED-20170111ABK, From Maricopa, AZ, To Avondale, AZ; New England Broadcasting Edu. Group Inc., Station WVCA, Facility ID 197976, BMPED-20161128ADJ, From Newbury, MA, To Seabrook, NH; Top O' Texas Ed B/Casting Foundation, Station KUHC, Facility ID 174504, BPED-20170127ABL, From Clayton, NM, To Hartley, TX; University Of Massachusetts, Station WUMD, Facility ID 163899, BPED-20170104AAW, From North Dartmouth, MA, To Newport, RI; White Mountains Broadcasting, LLC., Station WWOX, Facility ID 190383, BMPH-20170130AAZ, From Canaan, VT, To Milan, NH.

DATES: The agency must receive comments on or before April 28, 2017.

ADDRESSES: Federal Communications Commission, 445 Twelfth Street SW., Washington, DC 20554.

FOR FURTHER INFORMATION CONTACT: Tung Bui, 202-418-2700.

SUPPLEMENTARY INFORMATION: The full text of these applications is available for inspection and copying during normal business hours in the Commission's Reference Center, 445 12th Street SW., Washington, DC 20554 or electronically via the Media Bureau's Consolidated Data Base System, http://licensing.fcc.gov/prod/cdbs/pubacc/prod/cdbs_pa.htm.

Federal Communications Commission.
James D. Bradshaw,
Deputy Chief, Audio Division, Media Bureau.

[FR Doc. 2017-03808 Filed 2-24-17; 8:45 am]

BILLING CODE 6712-01-P